INTERNATIONAL TRADE COMMISSION

[Investigation No. 337-TA-1193]

Certain Capacitive Touch-Controlled Mobile Devices, Computers, and Components Thereof; Commission Determination Not To Review an Initial Determination Terminating the Investigation as to Respondents Amazon, Apple, LG, Microsoft, Motorola, Samsung, and Sony Based on Settlement; Termination of Investigation

AGENCY: U.S. International Trade Commission.

ACTION: Notice.

SUMMARY: Notice is hereby given that the U.S. International Trade Commission (“Commission”) has determined not to review an initial determination (“ID”) (Order No. 22) of the presiding administrative law judge (“ALJ”) terminating the investigation with respect to the remaining respondents (Amazon, Apple, LG, Microsoft, Motorola, Samsung, and Sony) based on settlements. This investigation is terminated.

FOR FURTHER INFORMATION CONTACT: Ronald A. Traud, Esq., Office of the General Counsel, U.S. International Trade Commission, 500 E Street SW, Washington, DC 20436, telephone (202) 205-3427. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On March 20, 2020, the Commission instituted this investigation based on a complaint filed by Neodron Ltd. of Dublin, Ireland (“Neodron”). 85 FR 16130 (Mar. 20, 2020). The complaint alleges violations of section 337 of the Tariff Act of 1930, as amended, 19 U.S.C. 1337, based upon the importation into the United States, the sale for importation, or the sale within the United States after importation of certain capacitive touch-controlled mobile devices, computers, and components thereof by reason of infringement of certain claims of U.S. Patent Nos. 7,821,425; 7,903,092; 8,749,251; and 9,411,472. Id. The Commission's notice of investigation named as respondents Amazon.com, Inc. of Seattle, Washington (“Amazon”); Apple Inc. of Cupertino, California (“Apple”); LG Electronics Inc. of Seoul, Republic of Korea; LG Electronics USA, Inc. of Englewood Cliffs, New Jersey (collectively, “LG”); Microsoft Corporation of Redmond, Washington (“Microsoft”); Motorola Mobility LLC of Chicago, Illinois (“Motorola”); Samsung Electronics Co., Ltd. of Suwon, Republic of Korea; Samsung Electronics America, Inc. of Ridgefield Park, New Jersey (collectively, “Samsung”); Sony Corporation of Tokyo, Japan; Sony Mobile Communications Inc. of Tokyo, Japan (collectively, “Sony”); and ASUSTeK Computer Inc. of Taiwan; ASUS Computer International of Fremont, California (collectively, “ASUS”). Id. at 16131. The Office of Unfair Import Investigations (“OUII”) is participating in the investigation. Id.

On November 24, 2020, this investigation was terminated as to ASUS. Order No. 19 (Nov. 12, 2020), unreviewed, Notice (Nov. 24, 2020).

On January 27, 2021, Neodron and the remaining respondents (Amazon, Apple, LG, Microsoft, Motorola, Samsung, and Sony) filed a joint motion to terminate this investigation as to the remaining respondents based on settlements between Neodron and each remaining respondent. On February 8, 2021, OUII filed a statement in support of the motion.

On February 19, 2021, the ALJ issued Order No. 22, the subject ID, which granted Neodron's motion. The ID found that the motion complies with 19 CFR 210.21(b) and that no extraordinary circumstances prevent denying the motion. The ID also finds that there is no evidence indicating that terminating this investigation based on the various settlement agreements would be contrary to the public interest. No petitions for review of the ID were filed.

The Commission has determined not to review the subject ID. The investigation is hereby terminated in its entirety.

The Commission vote for this determination took place on March 15, 2021.

The authority for the Commission's determination is contained in section 337 of the Tariff Act of 1930, as amended (19 U.S.C. 1337), and in Part 210 of the Commission's Rules of Practice and Procedure (19 CFR part 210).

By order of the Commission.
Issued: March 15, 2021.
Lisa Barton,
Secretary to the Commission.

[FR Doc. 2021-05638 Filed 3-17-21; 8:45 am]

BILLING CODE 7020-02-P